DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from April 27 to May 1, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: June 9, 2009.
J. Paul Loether,
Chief, National Register of Historic Places/National Historic Landmarks Program.

KEY: State, County, Property Name, Address/Boundary, City, Vicinity, Reference Number, Action, Date, Multiple Name

ARIZONA

Maricopa County

Dowdy, George O., Rental Cottage, 6818 N. 60th Ave., Glendale, 09000246, Listed, 4/30/09

ARKANSAS

Cleburne County

Heber Springs Commercial Historic District, 100, 200 blocks E. Main St., 100-500 blocks of W. Main St., 100 block of N. and S. 3rd and N. and S. 4th Sts., Heber Springs, 09000266, Listed, 5/01/09

CALIFORNIA

Alameda County

Women's Athletic Club of Alameda County, 525 Bellevue Ave., Oakland, 09000247, Listed, 4/29/09

Merced County

Merced Theatre, 301 W. 17th St., Merced, 09000248, Listed, 5/01/09

COLORADO

Clear Creek County

Mill City House, 247 Co. Rd. 308, Dumont, 09000250, Listed, 4/30/09

El Paso County

Van Briggle Pottery Company, 1125 Glen Ave./231 W. Uintah St., Colorado Springs, 09000249, Listed, 4/29/09

FLORIDA

Alachua County

Mission San Francisco de Potano, Address Restricted, Gainesville vicinity, 09000251, Listed, 4/30/09

MASSACHUSETTS

Worcester County

Safety Fund National Bank, 470 Main St., Fitchburg, 09000252, Listed, 4/30/09 (Downtown Architecture of H.M. Francis, Fitchburg, MA)

MISSOURI

St. Louis Independent City

Bel Air Motel, 4630 Lindell, St. Louis, 09000253, Listed, 5/01/09

NEVADA

Clark County

”Welcome to Fabulous Las Vegas” Sign, The, Las Vegas Blvd., in public right of way, approx. .5 mi. S. of intersection with Russell Rd., Paradise Township, 09000284, Listed, 5/01/09

NEW YORK

Chautauqua County

Dunkirk Schooner Site, Address Restricted, Dunkirk, 09000285, Listed, 5/01/09

Greene County

Methodist Episcopal Church of Windham Centre, 1843 NY 23, Windham, 09000255, Listed, 4/27/09

Kings County

Congregation Beth Abraham, 203 E. 37th St., Brooklyn, 09000256, Listed, 4/30/09

New York County

New York Telephone Company Building, 140 W. St., New York, 09000257, Listed, 4/30/09

Park and Tilford Building, 310 Lenox Ave., New York, 09000258, Listed, 5/01/09

Onondaga County

Temple Society of Concord, 910 Madison St., Syracuse, 09000259, Listed, 4/27/09

Rockland County

Contempora House, 88 S. Mountain Rd., New City vicinity, 09000260, Listed, 4/29/09

NORTH CAROLINA

Buncombe County

Baird, Zebulon H., House, 460 Weaverville Rd., Weaverville vicinity, 09000261, Listed, 4/30/09

Thomas Chapel A.M.E. Zion Church, 300 Cragmont Rd., Black Mountain, 09000262, Listed, 4/30/09

Durham County

Holloway Street Historic District (Boundary Increase), Roughly bounded by Holloway, Elizabeth, Primitive, and Queen Sts., and Mallard Ave., Durham, 09000263, Listed, 4/30/09 (Durham MRA)

Robeson County

Asbury Methodist Church, SE. side US Hwy. 301 N., .10 mi. SW. of NC 1154, Raynham, 09000264, Listed, 4/30/09

Wilkes County

Downtown Wilkesboro Historic District, Bounded roughly by Cowles and Corporation Sts., Henderson Dr., and Woodland Blvd., Wilkesboro, 09000290, Listed, 4/30/09 (Wilkesboro MRA)

UTAH

Cache County

Crockett House, 82 Crockett Ave., Logan, 09000017, Listed, 4/27/09

[FR Doc. E9-13952 Filed 6-11-09; 8:45 am]

BILLING CODE P